DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed reinstatement and three-year extension of Form EIA-457A-G, “Residential Energy Consumption Survey (RECS).”

DATES: Comments must be filed by July 19, 2004. If you anticipate difficulty in submitting comments within that period, contact the person listed below as soon as possible.

ADDRESSES: Send comments to Stephanie J. Battles or Michael T. Laurence. To ensure receipt of the comments by the due date, submission by FAX (202-586-0018) or e-mail (stephanie.battles@eia.doe.gov or michael.laurence@eia.doe.gov) is recommended. The mailing address is Office of Energy Markets and End-Use, Energy Consumption Division, EI-63, Forrestal Building, U.S. Department of Energy, Washington, DC 20585. Alternatively, Stephanie J. Battles may be contacted by telephone at (202) 586-7327 and Michael T. Laurence may be contacted by telephone at (202) 586-2453.

FOR FURTHER INFORMATION CONTACT: Requests for additional information or copies of any forms and instructions should be directed to Ms. Battles or Mr. Laurence at the address listed above.

SUPPLEMENTARY INFORMATION:

I. Background
II. Current Actions
III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The Residential Energy Consumption Survey (RECS) is a periodic survey of U.S. residential households to collect energy consumption and expenditures data and track changes over time. The data are widely used throughout the government and the private sector for policy analysis and are made available to the public in print and electronic media products. Comprehensive data for the most recent survey, the 2001 RECS, are available only in electronic form at EIA's Residential Web site home page at http://www.eia.doe.gov/emeu/recs/contents.html. Results from the 1997 and 1993 RECS are available in both printed form (e.g., U.S. Department of Energy, Energy Information Administration, A Look at Residential Consumption in 1997, November 1999, DOE/EIA-0632(97); Housing Characteristics 1993, June, 1995, DOE/EIA-0314(93); and Household Energy Consumption and Expenditures 1993, October 1995, DOE/EIA-032 (93)) and on the EIA Residential Web site home page. Results from all previous RECS are available only in printed form.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

This is a reinstatement of OMB No. 1905-0092 that expired February 29, 2004. The reinstatement will be for a three-year period. No significant content or methodological changes are being implemented. Due to funding restraints, the RECS is conducted on a quadrennial schedule, a schedule established with the 1997 RECS. Computer-Assisted Personal Interviewing (CAPI), a technology implemented with the 1997 RECS, and used again in the 2001 RECS, will be continued.

Most of the content of the survey questionnaires to be used in the 2005 RECS will be substantially the same as those used in the 2001 RECS. On a few of the questions minor wording changes may be made in the interest of clarity. Some questions that yielded little useful data will be deleted, while questions dealing with new energy-consuming appliances and important analytical issues such as energy efficiency will be added. Questions that would enhance EIA's ability to more accurately identify the end-uses for which energy in households is consumed, and support end-use allocation and estimation algorithms, may also be added.

The Environmental Protection Agency (EPA) has submitted a request to include questions on RECS relating to potential appliances for an Energy Star rating such as computers and ceiling fans. In another request, Lawrence Berkeley National Laboratory, with EPA as the potential sponsor, has submitted a request to include questions on RECS relating to household water use. Both requests are for information they need but don't feel it necessary to create a whole new survey. Including the added questions would assist EPA with their decision on adding new Energy Star appliances. Also, no comparable water or water-energy survey currently exists at the national level. Since the RECS is highly detailed and constructed to be representative of the entire population, EPA-sponsored water questions on the RECS would be indispensable for analysis and policy planning on household water use. However, EPA funding has not yet been approved for either request, and if it is not approved, the additional questions relating to potential Energy Star products and household water use, will not be included on the RECS. This will be explained in the information collection request to OMB.

The 2005 RECS will be conducted under the provisions of the Confidential Information Protection and Statistical Efficiency Act (CIPSEA) of 2002 (title 5, subtitle A, Pub. L. 107-347). As in the past, information provided by respondents will be used only for statistical purposes.

Under the provisions of the law, every EIA employee, EIA contractor employee, and agent must keep confidential any individually identifiable information in his or her possession, and is subject to a jail term, a fine, or both, if he or she discloses or releases any identifiable information for nonstatistical purposes, without the informed consent of the respondent. The CIPSEA permits EIA to obtain actual identifiers of survey respondents and process raw survey data on its physical premises while protecting information associated with individual respondents.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 40 minutes per response for Form EIA-457A, Household Questionnaire; 20 minutes per response for Form EIA-457B, Mail version of the Household Questionnaire; 15 minutes per response for Form EIA-457C, Rental Agents, Landlords, and Apartment Managers; 30 minutes per response for Form EIA-457D, Household Bottle Gas (LPG or Propane) Usage; 30 minutes per response for Form EIA-457E, Household Electricity Usage; 30 minutes per response for Form EIA-457F, Household Natural Gas Usage; and 30 minutes per response for Form EIA-457G, Household Fuel Oil or Kerosene Usage. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. chapter 35).

Issued in Washington, DC, May 12, 2004.
Jay H. Casselberry,
Agency Clearance Officer, Statistics and Methods Group, Energy Information Administration.

[FR Doc. 04-11414 Filed 5-19-04; 8:45 am]

BILLING CODE 6450-01-P